DEPARTMENT OF COMMERCE

International Trade Administration

[A-552-801]

Certain Frozen Fish Fillets From the Socialist Republic of Vietnam: Extension of Time Limits for the Preliminary Results of the New Shipper Reviews

AGENCY: Import Administration, International Trade Administration, Department of Commerce.

EFFECTIVE DATE: February 4, 2009.

FOR FURTHER INFORMATION CONTACT: Tim Lord (Cadovimex II) or Alexis Polovina (SAMEFICO), AD/CVD Operations, Office 9, Import Administration, International Trade Administration, U.S. Department of Commerce, 14th Street and Constitution Avenue, NW, Washington, DC 20230; telephone: (202) 482-7524 and (202) 482-3927, respectively.

SUPPLEMENTARY INFORMATION:

Background

The notice announcing the antidumping duty order on certain frozen fish fillets from Vietnam was published in the Federal Register on August 12, 2003. See Notice of Antidumping Duty Order: Certain Frozen Fish Fillets from the Socialist Republic of Vietnam, 68 FR 47909 (August 12, 2003). On August 8, 2008, and August 26, 2008, we received timely requests for new shipper reviews from Saigon-Mekong Fishery Co., Ltd. ( “SAMEFICO”) and Cadovimex II Seafood Import-Export and Processing Joint Stock Company (“Cadovimex II”) in accordance with 19 CFR 351.214(c) and 351.214(d)(2). On October 1, 2008, the Department published a notice of initiation of new shipper reviews of certain frozen fish fillets from the Socialist Republic of Vietnam covering the period of August 1, 2007, through July 31, 2008. See Certain Frozen Fish Fillets from the Socialist Republic of Vietnam: Initiation of Antidumping Duty New Shipper Reviews, 73 FR 57058, (October 1, 2008). The preliminary results are currently due no later than March 24, 2009.

Statutory Time Limits

Section 751(a)(2)(B)(iv) of the Tariff Act of 1930, as amended (the “Act”), provides that the Department will issue the preliminary results of a new shipper review of an antidumping duty order within 180 days after the day on which the review was initiated. See also 19 CFR 351.214 (i)(1). The Act further provides that the Department may extend that 180-day period to 300 days if it determines that the case is extraordinarily complicated. See also 19 CFR 351.214 (i)(2).

Extension of Time Limit of Preliminary Results

The Department determines that these new shipper reviews involve extraordinarily complicated methodological issues such as the examination of importer information and the evaluation of the bona fide nature of each company's sales. In addition, the Department needs additional time to evaluate the complicated multiple stages of production. Therefore, in accordance with section 751(a)(2)(B)(iv) of the Act and 19 CFR 351.214(i)(2), the Department is extending the time limit for these preliminary results by 120 days, until no later than July 22, 2009. The final results continue to be due 90 days after the publication of the preliminary results.

We are issuing and publishing this notice in accordance with sections 751(a)(2)(B)(iv) and 777(i) of the Act.

Dated: January 27, 2009.
John M. Andersen,
Acting Deputy Assistant Secretary for Import Administration.

[FR Doc. E9-2356 Filed 2-3-09; 8:45 am]

BILLING CODE 3510-DS-S